DEPARTMENT OF ENERGY

Federal Energy Regulatory Commission

[Docket No. RP01-536-001]

Florida Gas Transmission Company; Notice of Compliance Filing

October 23, 2001.

Take notice that on October 9, 2001 Florida Gas Transmission Company (Florida Gas) tendered for filing with the Federal Energy Regulatory Commission (Commission) its response to an issued raised by the Florida Municipal Natural Gas Association (FMNGA) in Florida Gas' underlying filing in Docket No. RP01-536-000.

Florida Gas states that the purpose of the instant filing is to comply with the Commission's Order issued September 27, 2001, which required Florida Gas to respond to FMNGA's suggestion that Florida Gas consider developing a system that would permit parties to determine the time that bids for capacity are submitted.

Any person desiring to protest said filing should file a protest with the Federal Energy Regulatory Commission, 888 First Street, NE., Washington, DC 20426, in accordance with section 385.211 of the Commission's Rules and Regulations. All such protests must be filed on or before October 30, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27088 Filed 10-26-01; 8:45 am]

BILLING CODE 6717-01-P